DEPARTMENT OF ENERGY

Notice of Wetlands Involvement for the Portsmouth Gaseous Diffusion Plant Reindustrialization Program

AGENCY: Office of Environmental Management, DOE.

ACTION: Notice of wetland involvement.

SUMMARY: The U.S. Department of Energy (DOE) is proposing to implement a Reindustrialization Program at the Portsmouth Gaseous Diffusion Plant (PORTS) in Piketon, Ohio. The PORTS facility contains a number of wetlands. The Reindustrialization Program would enable DOE to transfer real and personal property (i.e., underutilized, surplus, or excess PORTS land and facilities) by lease and/or disposal (e.g., sale, donation, transfer to another federal agency, or exchange). The Southern Ohio Diversification Initiative (SODI) is the local community reuse organization actively involved in seeking new uses of the DOE's PORTS excess or underutilized land and facilities. DOE is presently proposing to transfer a parcel of land (approximately 340 acres in size) to SODI for these purposes. The land in consideration includes several wetlands. More detail on these wetlands is provided in the supplementary information.

DATES: Comments are due to the address below no later than January 2, 2002.

ADDRESSES: Comments should be addressed to Ms. Kristi Wiehle, U.S. Department of Energy, Portsmouth Gaseous Diffusion Plant, PO Box 700, 3930 U.S. Route 23, Perimeter Road, Piketon, OH 45661-0700. Comments may be faxed to (740) 897-5020.

FOR FURTHER INFORMATION CONTACT: Ms. Kristi Wiehle, U.S. Department of Energy, Portsmouth Gaseous Diffusion Plant, PO Box 700, 3930 U.S. Route 23, Perimeter Road, Piketon, OH 45661-0700, (740) 897-5020.

For Further Information on General DOE Wetland Environmental Review Requirements, contact: Carol M. Borgstrom, Director, Office of NEPA Policy and Assistance, EH-42, U.S. Department of Energy, 1000 Independence Avenue, SW., Washington, DC 200585, (202) 586-4600 or (800) 472-2756.

SUPPLEMENTARY INFORMATION: In accordance with the National Environmental Policy Act (NEPA), the Council on Environmental Quality regulations (40 CFR parts 1500-1508) and the DOE NEPA Implementing Regulations (10 CFR 1021), DOE has prepared a draft Environmental Assessment (EA) to evaluate the proposed action. The draft EA was issued for public review and comment on May 9, 2001, via a notice placed in three Portsmouth area newspaper. As a part of the EA (DOE/EA-1346), DOE is including a wetlands assessment to assess the existing wetlands environment as well as the potential impact of the proposed Reindustrialization Program implementation. (The wetlands assessment is available by contracting the PORTS representative named above.) DOE proposes to implement and conduct the Reindustrialization Program in a manner that avoids or minimizes potential adverse effects to the wetlands at the site. Reindustrialization would enable DOE to transfer real and personal property by lease and/or disposal. Under the program, DOE would transfer the property to a community reuse organization, to other federal agencies, or to other interested persons and entities, should DOE determine them suitable. Transferred land and facilities may then be developed or utilized for a range of industrial and commercial uses including, but not limited to manufacturing, warehousing, office/business park, rail and intermodal transportation, and retail and service operations.

Land and facilities presently available for transfer occupy approximately 526.1 hectares (ha) [1300 acres (ac)] or about 35% of the 1503 ha (3714 ac) of PORTS. For the most part, this area is comprised of previously industrialized areas, infrastructure corridors, roads, loading and parking areas, and open and forested buffer areas. Of the land available for transfer, there are 41 wetlands under the jurisdictional regulation of the U.S. Army Corps of Engineers and 4 non-jurisdictional wetlands totaling 13.92 ha (34.36 ac). In addition to regulation by the Corps, the State of Ohio also regulates wetlands in a “tiered” approach structured around avoidance, minimization, mitigation, and compensation, where avoidance is the most desirable means to protect and preserve the resource and compensation the least desirable. The majority of the wetlands are associated with wet fields, areas of previous disturbance, drainage ditches, or wet areas along roads and railway tracks.

The potential for and degree of impacts to the wetlands could result from a variety of actions that might occur, depending upon how the tenant or new owner proposes to use the land. Some or all of the wetlands could potentially experience impacts by development in the wetlands themselves or by Reindustrialization activities in nearby areas. The worst-case scenario would involve filling the wetlands. Other lesser impacts could result from siltation due to poor soil erosion control measures at nearby locations, spills or leaks of oil or other chemicals, overuse of pesticides or herbicides that could lead to contamination and potentially harm animal species that use the wetlands for cover or forage, etc., planting of exotic species that could rapidly colonize and eventually choke-off the wetlands, such as purple loosestrife (Lythrum salicaria).

For purposes of the environmental restoration activities ongoing at PORTS, the site is divided into 4 “Quadrants” based on groundwater flow patterns. Quadrant I (the southern part of the site) has 13 jurisdictional wetlands totaling 5.22 ha (12.91ac). The wetlands in Quadrant I range in size from .093 ha (.0230 ac) in a drainage ditch to one that is 1.874 ha (4.626 ac), that is the former site of a never-completed building project. Of the 13 wetlands, 5 are associated with roadways and ditches and the remaining 8 are the result of site preparation, grading and drainage alternation for building construction. None of the wetlands are hydrologically connected although they do periodically support wetland plant species and may exhibit hydric soil conditions.

Quadrant II, the eastern part of the site, contains 3 jurisdictional wetlands with a total area of 5.2 ha (12.86 ac). The wetlands in Quadrant II range in size from the smallest, .182 ha (.45 ac), associated with an area of previous disturbance, to .821 ha (2.028 ac) in a radiologically contaminated area, to one that is 4.203 ha (10.378 ac), and that is within the Little Beaver Creek drainage. Only 1 of the 3 wetlands is within an area considered for Reindustrialization.

Quadrant III, the central and western part of the site, has 6 jurisdictional wetlands totaling 0.82 ha (2.02 ac). The smallest wetland in Quadrant III is .015 ha (.036 ac) and the largest is .486 ha (1.201 ac). Of the 6 wetlands, 4 are associated with roads and ditches, and the remaining 2 with previously disturbed areas, one of which is radiologically contaminated. Only 1 of these 6 wetlands is within an area proposed for Reindustrialization. None of the wetlands are hydrologically connected although they do periodically support wetland plant species and may exhibit hydric soil conditions.

Quadrant IV, the northern section of the site, has 19 jurisdictional wetlands and 4 non-jurisdictional wetlands totaling 2.66 ha (6.58 ac). The 4 non-jurisdictional wetlands are associated with active sludge lagoons. The smallest wetland in Quadrant IV is .005 ha (.012 ac) and 15 of the 19 jurisdictional wetlands are less than .1 ha (~¼ ac) in size. The largest wetland is .949 ha (2.32 ac) and is within an old borrow area. Of these 19 wetlands, all except 4 are the result of man-made disturbance including road and ditch construction, dams, and borrow areas. The 4 remaining wetlands are open fields, 3 of which have been disturbed by plant activities. Although 19 wetlands are in this Quadrant, proposed Reindustrialization activities, namely the proposed transfer of 340 acres to SODI, would only involve 6 of the wetlands. There are no other areas within Quad IV that contain wetlands that are being proposed for Reindustrialization. Of those 6 wetlands, 5 are ditches and within a borrow area and the remaining 1 is associated with a previously disturbed natural area.

In accordance with DOE regulations for compliance with wetlands environmental review requirements (10 CFR part 1022), a wetland assessment will be included within the Environmental Assessment for the Reindustrialization Program at the Portsmouth Gaseous Diffusion Plant (DOE/EA-1346).

Issued in Oak Ridge, Tennessee, on November 13, 2001.
James L. Elmore,
Alternate NEPA Compliance Officer.

[FR Doc. 01-30894 Filed 12-13-01; 8:45 am]

BILLING CODE 6450-50-01-M